ENVIRONMENTAL PROTECTION AGENCY

[FRL-9922-90]

Pesticide Program Dialogue Committee; Request for Nominations to the Pesticide Program Dialogue Committee

AGENCY: Environmental Protection Agency (EPA).

ACTION: Notice.

SUMMARY: The Environmental Protection Agency's (EPA's) Office of Pesticide Programs is inviting nominations from a diverse range of qualified candidates to be considered for appointment to the Pesticide Program Dialogue Committee (PPDC). The PPDC was chartered to provide advice and recommendations to the EPA Administrator on a broad range of issues concerning pesticide regulatory development and reform initiatives, evolving public policy and program implementation issues, and science issues associated with evaluating and reducing risks from pesticide use. To maintain the representation outlined by the charter, nominees will be selected to represent: Environmental/public interest and animal rights groups; farm worker organizations; pesticide industry and trade associations; pesticide user, grower, and commodity groups; Federal/State/local and tribal governments; academia; and public health organizations. Vacancies are expected to be filled by early summer 2015. Sources in addition to this Federal Register notice may be utilized in the solicitation of nominees.

DATES: Nominations must be emailed or postmarked no later than March 16, 2015.

ADDRESSES: Submit nominations electronically with the subject line “PPDC Membership 2015” to zimmerman.dea@epa.gov. You may also submit nominations by mail to: Dea Zimmerman (LC-8J), PPDC Designated Federal Officer, Office of Pesticide Programs, U.S. Environmental Protection Agency, 77 W. Jackson Blvd., Chicago, IL 60604. Non-electronic submissions must follow the same format and contain the same information.

FOR FURTHER INFORMATION CONTACT: Dea Zimmerman, Designated Federal Officer for the PPDC, telephone number: (312) 353-6344; email address: zimmerman.dea@epa.gov.

SUPPLEMENTARY INFORMATION:

I. General Information

A. Does this action apply to me?

This action is directed to the public in general, and may be of particular interest to persons who work in agricultural settings or persons who are concerned about implementation of the Federal Insecticide, Fungicide, and Rodenticide Act (FIFRA); the Federal Food, Drug, and Cosmetic Act (FFDCA); and the amendments to both of these major pesticide laws by the Food Quality Protection Act (FQPA) of 1996; and the Pesticide Registration Improvement Act (PRIA). Potentially affected entities may include, but are not limited to: Agricultural workers and farmers; pesticide industry and trade associations; environmental, consumer, and farmworker groups; pesticide users and growers; animal rights groups; pest consultants; State, local and tribal governments; academia; public health organizations; and the public. If you have questions regarding the applicability of this action to a particular entity, consult the person listed under FOR FURTHER INFORMATION CONTACT.

II. Background

The PPDC is a federal advisory committee chartered under the Federal Advisory Committee Act (FACA), Public Law 92-463. EPA established the PPDC in September 1995, to provide advice and recommendations to the EPA Administrator on issues associated with pesticide regulatory development and reform initiatives, evolving public policy and program implementation issues, and science issues associated with evaluating and reducing risks from use of pesticides. The following sectors are represented on the current PPDC: Environmental/public interest and animal rights groups; farm worker organizations; pesticide industry and trade associations; pesticide user, grower, and commodity groups; Federal and State/local/tribal governments; the general public; academia; and public health organizations.

The PPDC usually meets face-to-face twice a year, generally in the spring and the fall. Additionally, members may be asked serve on work groups to develop recommendations to address specific policy issues. The average workload for members is approximately 4 to 6 hours per month. PPDC members may receive travel and per diem allowances where appropriate and according to applicable federal travel regulations.

III. Nominations

The EPA values and welcomes diversity. In an effort to obtain nominations of diverse candidates, the agency encourages nominations of women and men of all racial and ethnic groups. All nominations will be fully considered, but applicants need to be aware of the specific representation sought as outlined in the Summary above. Any interested person or organization may nominate qualified persons to be considered for appointment to this advisory committee. Individuals may self-nominate. Nominations may be submitted in electronic format (preferred) or mailed to Dea Zimmerman at the address listed under ADDRESSES.

To be considered, all nominations should include:

• Current contact information for the nominee, including the nominee's name, organization (and position within that organization), current business address, email address, and daytime telephone number.

• Brief Statement describing the nominee's interest and availability in serving on the PPDC.

• Résumé and a short biography (no more than 2 paragraphs) describing the professional and educational qualifications of the nominee, including a list of relevant activities, or any current or previous experience on advisory committees.

• Letter(s) of recommendation from a third party supporting the nomination. The letter should describe how the nominee's experience and knowledge will bring value to the work of the PPDC.

Other sources, in addition to this Federal Register notice, may also be utilized in the solicitation of nominees.

Authority: 7 U.S.C. 136 et seq.

Dated: February 6, 2015.
Jack E. Housenger,
Director, Office of Pesticide Programs.

[FR Doc. 2015-03054 Filed 2-12-15; 8:45 am]

BILLING CODE 6560-50-P